DEPARTMENT OF THE TREASURY

Internal Revenue Service

Open Meeting of the Taxpayer Advocacy Panel Tax Forms and Publications Project Committee

AGENCY: Internal Revenue Service (IRS), Treasury.

ACTION: Notice of meeting.

SUMMARY: An open meeting of the Taxpayer Advocacy Panel Tax Forms and Publications Project Committee will be conducted. The Taxpayer Advocacy Panel is soliciting public comments, ideas and suggestions on improving customer service at the Internal Revenue Service.

DATES: The meetings will be held Monday, March 24, 2014 and Tuesday, March 25, 2014.

FOR FURTHER INFORMATION CONTACT: Trena Derricott at 1-888-912-1227 or 801-620-3035

SUPPLEMENTARY INFORMATION: Notice is hereby given pursuant to section 10(a)(2) of the Federal Advisory Committee Act, 5 U.S.C. App. (1988) that an open meeting of the Taxpayer Advocacy Panel Tax Forms and Publications Project Committee will be held Monday, March 24, 2014, from 1:00p.m. to 4:30p.m. and Tuesday, March 25, 2014, from 8:00a.m. to 4:30p.m. Eastern Time. The public is invited to make oral comments or submit written statements for consideration. Notification of intent to participate must be made with Ms. Derricott. For more information please contact Ms. Derricott at 1-888-912-1227 or 801-620-3035, or write TAP Office, Arka Monterey Park Building, 1973 North Rulon White Blvd., Ogden, UT 84404-5402 or contact us at the Web site: http://www.improveirs.org.

The committee will be discussing various issues related to Tax Forms and Publications and public input is welcomed.

Dated: February 20, 2014.
Otis Simpson,
Acting Director, Taxpayer Advocacy Panel.

[FR Doc. 2014-04215 Filed 2-25-14; 8:45 am]

BILLING CODE 4830-01-P